DEPARTMENT OF COMMERCE

National Oceanic and Atmospheric Administration

RIN 0648-XD882

Fisheries of the Caribbean, Gulf of Mexico, and South Atlantic; Snapper-Grouper Fishery off the South Atlantic States; Amendment 36

AGENCY: National Marine Fisheries Service (NMFS), National Oceanic and Atmospheric Administration (NOAA), Commerce.

ACTION: Notice of Intent (NOI) to prepare a draft environmental impact statement (DEIS); request for comments; notice of scoping meetings.

SUMMARY: NMFS, Southeast Region, in collaboration with the South Atlantic Fishery Management Council (Council), intends to prepare a DEIS to describe and analyze a range of alternatives for management actions to be included in Amendment 36 to the Fishery Management Plan (FMP) for the Snapper-Grouper Fishery of the South Atlantic Region (Amendment 36). Amendment 36 will consider alternatives to implement special management zones (SMZs). The purpose of this NOI is to solicit public comments on the scope of issues to be addressed in the DEIS and to announce scoping meetings.

DATES: Written comments on the scope of issues to be addressed in the DEIS will be accepted until May 8, 2015.

ADDRESSES: You may submit comments on the NOI identified by “NOAA-NMFS-2015-0050” by either of the following methods:

• Electronic submissions: Submit electronic comments via the Federal e-Rulemaking Portal. Go to www.regulations.gov/#!docketDetail;D=NOAA-NMFS-2015-0050, click the “Comment Now!” icon, complete the required fields, and enter or attach your comments.

• Mail: Submit written comments to Rick DeVictor, NMFS Southeast Regional Office (SERO), 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Rick DeVictor, NMFS SERO, telephone: 727-824-5305, or email: rick.devictor@noaa.gov. Kim Iverson, Public Information Officer, South Atlantic Fisheries Management Council, 4055 Faber Place Drive,Suite 201, North Charleston, SC 29405; telephone: 843-571-4366, or email: kim.iverson@safmc.net.

SUPPLEMENTARY INFORMATION: In 1983, the Council and NMFS established a procedure under the FMP for the Snapper-Grouper Fishery of the South Atlantic Region for designation of SMZs to protect artificial reef habitats. The procedure includes the development of recommendations to establish an SMZ by a monitoring team, a review of the recommendations by the Council, and submittal of the recommendations to the NMFS Southeast Regional Administrator (RA). The RA reviews the Council's recommendations and may propose regulations in accordance with the recommendations or take no action. The Council and NMFS have used the procedure to establish artificial reef SMZs in the South Atlantic region. The SMZs protect artificial reef habitat by prohibiting the use of gear types such as fish traps and bottom longlines.

Through Amendment 36, the Council is considering modifications to the SMZ process and framework procedures to include the consideration of SMZs that would protect locations where snapper-grouper fish species are likely to spawn and natural habitats that support spawning fish. Protecting locations where fish spawn and protecting natural habitats that support spawning fish will likely enhance stock productivity and may act as an effective strategy when managing a sustainable fish population.

In the amendment, the Council is also considering the implementation of SMZs to protect spawning snapper-grouper species in the South Atlantic region. The measures in Amendment 36 would prohibit fishing for, harvest, and/or possession of species in the snapper-grouper fishery management unit year-round in the proposed SMZs; fishing for other species would be allowed in accordance with the current regulations. Some of the sites being considered in Amendment 36 were recommended for protection by a Marine Protected Area (MPA) Expert Workgroup that was formed by the Council in 2012. The MPA Expert Workgroup is comprised of scientists and fishermen with experience studying snapper-grouper fish species and observing fish in spawning condition.

NMFS previously published NOIs to notify the public that the Council and NMFS are considering the establishment of spatial management areas. NMFS published an NOI to prepare a DEIS for the Comprehensive Ecosystem-Based Amendment 3 (CE-BA 3) on May 23, 2012 (77 FR 30506). One proposed action in CE-BA 3 was to modify existing MPAs or to establish new ones; however, that action was moved to Regulatory Amendment 17. An NOI for Regulatory Amendment 17 was published on December 4, 2013 (78 FR 72867). Through Regulatory Amendment 17, the Council intended to further reduce bycatch mortality of speckled hind and warsaw grouper and increase protection to their habitat. However, at their June 2014 meeting, the Council decided not to proceed further with the development of Regulatory Amendment 17.

NMFS, in collaboration with the Council, will develop a DEIS to describe and analyze alternatives to address the management needs described above including the “no-action” alternative. In accordance with NOAA's Administrative Order 216-6, Section 5.02(c), Scoping Process, NMFS, in collaboration with the Council, has identified preliminary environmental issues as a means to initiate discussion for scoping purposes only. The public is invited to attend scoping meetings (dates and addresses below) and provide written comments on the preliminary issues, which are identified as actions and alternatives in the Amendment 36 scoping document. These preliminary issues may not represent the full range of issues that will eventually be evaluated in the DEIS. A copy of the Amendment 36 scoping document is available at http://sero.nmfs.noaa.gov/sustainable_fisheries/s_atl/sg/index.html.

After the DEIS associated with Amendment 36 is completed, it will be filed with the Environmental Protection Agency (EPA). After filing, the EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council and NMFS will consider public comments received on the DEIS in developing the final environmental impact statement (FEIS), and before voting to submit the final amendment to NMFS for Secretarial review, approval, and implementation under the Magnuson-Stevens Conservation and Management Act (Magnuson-Stevens Act). NMFS will announce in the Federal Register the availability of the final amendment and FEIS for public review during the Magnuson-Stevens Act Secretarial review period, and will consider all public comments prior to final agency action to approve, disapprove, or partially approve the final amendment.

NMFS will announce, through a document published in the Federal Register, all public comment periods on the final amendment, its proposed implementing regulations, and the availability of its associated FEIS. NMFS will consider all public comments received during the Secretarial review period, whether they are on the final amendment, the proposed regulations, or the FEIS, prior to final agency action.

Scoping Meetings

The scoping meetings will be held via webinar April 20, 2015, through April 23, 2015. A scoping meeting for Snapper-Grouper Amendment 36 will also be held in Key West, Florida, in conjunction with the Council meeting on June 10, 2015, beginning at 5:30 p.m. With the exception of the scoping meeting in Key West, Florida, all scoping meetings will be conducted via webinar accessible via the internet from the Council's Web site at www.safmc.net. Scoping meetings held via webinar will begin at 6 p.m. Registration for each webinar is required. Registration information will be posted on the SAFMC Web site at www.safmc.net as it becomes available. Any graphics, including maps, drawings, or images to be shown during public comment should be emailed to Mike Collins at mike.collins@safmc.net prior to the public hearing. Webinar registrants may test or confirm their computer setup for the webinar one hour prior to each hearing and contact Mike Collins at 843-763-1050 to address any questions regarding webinar setup. Local comment stations will also be provided at the following locations:

Scoping Meeting Dates and Local Comment Station Addresses

1. April 20, 2015—Local Comment Stations: SC Department of Natural Resources, Marine Resources Research Institute Auditorium, 217 Fort Johnson Road, Charleston, SC 29422-2559; phone 843-953-9300 and Holiday Inn Express, 722 Highway 17, Little River, SC 29566; phone: 843-281-9400.

2. April 21, 2015—Local Comment Station: NC Division of Marine Fisheries, Central District Office, 5285 Highway 70 West, Morehead City, NC 28557; phone 252-726-7021.

3. April 22, 2015: Local Comment Station: Coastal Resources Division, GA Department of Natural Resources, One Conservation Way, Brunswick, GA 31528-8687; phone 912-264-7218 and Richmond Hill Fish Hatchery, 110 Hatercry Drive, Richmond Hill, GA 31324; phone 912-756-3691.

4. April 23, 2015: Local Comment Station: Hampton Inn Daytona Speedway, 1715 W. International Speedway Boulevard, Daytona Beach, FL 32114; phone 386-257-4030.

5. June 10, 2015: A scoping meeting will be held in conjunction with the SAFMC meeting beginning at 5:30 p.m.; Doubletree Grand Key Resort, 3990 S. Roosevelt Blvd., Key West, FL 33040; phone 305-293-1818.

Authority: 16 U.S.C. 1801 et seq.

Dated: April 2, 2015.
Emily H. Menashes,
Acting Director, Office of Sustainable Fisheries, National Marine Fisheries Service.

[FR Doc. 2015-08057 Filed 4-7-15; 8:45 am]

BILLING CODE 3510-22-P